DEPARTMENT OF ENERGY

Energy Information Administration

Agency Information Collection Activities: Submission for OMB Review; Comment Request

AGENCY: Energy Information Administration (EIA), Department of Energy (DOE).

ACTION: Agency information collection activities: submission for OMB review; comment request.

SUMMARY: The EIA has submitted the Electric Power Program to the Office of Management and Budget (OMB) for review and a three-year extension under section 3507(h)(1) of the Paperwork Reduction Act of 1995 (Pub. L. 104-13) (44 U.S.C. 3501 et seq.).

DATES: Comments must be filed by October 12, 2004. If you anticipate that you will be submitting comments but find it difficult to do so within that period, you should contact the OMB Desk Officer for DOE listed below as soon as possible.

ADDRESSES: Send comments to OMB Desk Officer for DOE, Office of Information and Regulatory Affairs, Office of Management and Budget. To ensure receipt of the comments by the due date, submission by FAX (202-395-7285) is recommended. The mailing address is 726 Jackson Place, NW., Washington, DC 20503. (A copy of your comments should also be provided to EIA's Statistics and Methods Group at the address below.)

FOR FURTHER INFORMATION CONTACT: Requests for additional information should be directed to Grace Sutherland. To ensure receipt of the comments by the due date, submission by FAX (202-287-1705) or e-mail (grace.sutherland@eia.doe.gov) is recommended. The mailing address is Statistics and Methods Group (EI-70), Forrestal Building, U.S. Department of Energy, Washington, DC 20585-0670. Ms. Sutherland may be contacted by telephone at (202) 287-1712.

SUPPLEMENTARY INFORMATION: This section contains the following information about the energy information collection submitted to OMB for review: (1) The collection numbers and title; (2) the sponsor (i.e., the Department of Energy component); (3) the current OMB docket number (if applicable); (4) the type of request (i.e., new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Forms EIA-411, 412, 423, 767, 826, 860, 860M, 861, 906, and 920, “Electric Power Program.”

2. Energy Information Administration.

3. OMB Number 1905-0129.

4. Three-year extension.

5. Mandatory (all forms except for EIA-411) and voluntary (EIA-411).

6. The Electric Power Surveys collect electric power information including capacity, generation, fuel consumption, fuel receipts, fuel stocks, and prices, along with financial information. Respondents include both regulated and unregulated entities that comprise the U.S. electric power industry. Electric power data collected are used by the Department of Energy for analysis and forecasting. Data are published in various EIA reports.

Below are additional proposed changes to the electric power surveys that that have been made subsequent to the April 2, 2004 Federal Register notice (69 FR 17400) requesting public comments. The proposed changes resulted from EIA's consideration of public comments and internal reviews of the electric power surveys.

Generic changes across forms:

1. Replaced “Regulated” and “Unregulated” with “Utility” and “Non Utility,” where appropriate.

2. Standardized all “Higher Heating Value” tables across forms.

3. Combined all glossaries into one that can be accessed online; replaced all glossaries in the individual forms with links to the online version.

4. Revised burden estimates for all forms.

The changes noted below are FORM changes only. Many instructional changes were made in all the forms for the following form changes, and, in some cases, to better clarify the meaning of various data element requests.

For Form EIA-411

1. Modified: Schedule 2, CAPACITY FOR EXISTING GENERATORS IN REPORTING YEAR (was Schedule 3 in Federal Register version) by replacing lines 8, 9 and 10 with line 8. Basically lumped all of the derating categories into one category. Total operable capacity (line 11) is now line 9.

2. Modified: Schedule 3, HISTORICAL AND PROJECTED DEMAND AND CAPACITY (was Schedule 2 in Federal Register version) by adding lines 7a, 7b1, 7b2, 7c, and 7d to provide additional derating categories at a higher level of aggregation than Schedule 2 would have been.

3. Modified: Schedule 4, HISTORICAL AND PROJECTED CAPACITY PURCHASES/INCOMING TRANSFERS (MEGAWATTS) to include capacity incoming transfers, and to list Plant and Unit ID for each transfer/purchase.

For Form EIA-412

1. Modified: Schedule 9, Parts A, B, & C, ELECTRIC GENERATING PLANT STATISTICS, to add “Net Generation” back into forms, keeping “Gross Generation” but instructing respondents to provide Gross Generation only if they are unable to provide Net Generation data.

2. Also added “Rents” to Production Expenses portion of Schedule 9, Parts B & C (Rents was already included in Part A) in order to pick up all expenses.

3. Added a list of Prime Mover codes to instructions for Schedule 9, Parts A, B & C, line 1, “Kind of Plant.”

For Form EIA-767

1. In SCHEDULE 4, BOILER INFORMATION, PART C. DESIGN PARAMETERS, deleted lines 18 through 21 on alternate fuel capabilities.

2. In SCHEDULE 6, COOLING SYSTEM INFORMATION, PART B. DESIGN PARAMETERS, added line 22, datum for latitude and longitude.

3. In SCHEDULE 9, STACK AND FLUE INFORMATION—DESIGN PARAMETERS, added line 18, datum for latitude and longitude.

For Form EIA-826

1. Deleted SCHEDULE 1. RETAIL SALES TO ULTIMATE CUSTOMERS, PART E. ANY OTHER RETAIL ENERGY SERVICE PROVIDER THAT DOES NOT MEET THE REQUIREMENTS FOR SCHEDULES A THROUGH D.

2. Deleted word “Retail” from Schedule 1, Parts A, B, C, & D.

For Form EIA-860

1. Replaced data element from Schedule 3, Generator Information—“Is this Generator Regulated?” with “Is Any Part of This Generator Owned by an Entity that is Not an Electric Utility?”

2. Modified Schedule 3, Part B, Question 3—to read “Maximum Reactive Output (Lagging MVAR) At Expected Peak Output.”

3. Modified Schedule 3, Part B, Questions 8 to “Is this generator associated with a Combined Heat and Power system (fuel input is used to produce both electricity and useful thermal output)?” and Question 9 to “Is this a Distributed Generator?”

4. Added question 10 b to Schedule 3, Part B—“Is this generator part of a Solid Fuel Gasification system?”

5. Modified number of fuel options for co-firing reportable from 9 to 6 (Q. 20, Sch. 3, Part B).

6. Modified number of “other energy sources” from ten to four (Q. 14, Part B; Q. 11, Part C; Q. 13, Part D).

7. Deleted question on ability to co-fire natural gas in Parts B, C and D.

8. Added question 7b to Schedule 3, Part C, and 9b to Schedule 3, Part D—“Will this generator be part of a Solid Fuel Gasification system?”

9. Deleted question from Schedule 3, Part D.—Expected Active Power Output at Maximum Reactive Output (MW).

10. Deleted question from Schedule 3, Part B—Active Power Output at Maximum Reactive Output (MW).

11. Modified Schedule 3, Part D, Question 7 to: “Will this generator be associated with a Combined Heat and Power system (fuel input is used to produce both electricity and useful thermal output?)” and Question 8 to “Will this be a Distributed Generator?”

12. Deleted Schedule 7.

For Form EIA-861

1. Deleted word “Retail” from Schedule 4, Parts A, B, C, and D.

2. Deleted SCHEDULE 4. RETAIL SALES TO ULTIMATE CUSTOMERS, PART E. ANY OTHER RETAIL ENERGY SERVICE PROVIDER THAT DOES NOT MEET THE REQUIREMENTS FOR SCHEDULES A THROUGH D.

For Form EIA-906

1. Modified response due date on form from “10 days following the end of the report month,” to “the last day of the month following the end of the reporting period.”

2. Modified “Stocks at End of Reporting Month” to “Stocks at End of Reporting Period.”

For Form EIA-920

1. Modified response due date on form from 10 working days after the end of the report month to the last day of the month following the end of the reporting period.

2. Modified “Stocks at End of Reporting Month” to “Stocks at End of Reporting Period.”

3. Added line f—Other Outgoing Electricity to Schedule 4.2.

7. Business or other for-profit; State, local or tribal government; Federal government.

8. 155, 120 hours of burden.

Please refer to the supporting statement as well as the proposed forms and instructions for more information about the purpose, who must report, when to report, where to submit, the elements to be reported, detailed instructions, provisions for confidentiality, and uses (including possible nonstatistical uses) of the information. For instructions on obtaining materials, see the FOR FURTHER INFORMATION CONTACT SECTIONn.

Statutory Authority: Section 3507(h)(1) of the Paperwork Reduction Act of 1995 (Pub. L. No. 104-13)(44 U.S.C. 3501 et seq).

Issued in Washington, DC, September 2, 2004.
Jay H. Casselberry,
Agency Clearance Officer, Statistics and Methods Group, Energy Information Administration.

[FR Doc. 04-20500 Filed 9-9-04; 8:45 am]

BILLING CODE 6450-01-P